ENVIRONMENTAL PROTECTION AGENCY

40 CFR Part 52

[EPA-R03-OAR-2025-0130; FRL-11444-02-R3]

Air Plan Approval; Pennsylvania; Motor Vehicle Inspection and Maintenance Program Certification for Moderate Nonattainment Under the 2015 Ozone National Ambient Air Quality Standards

AGENCY: Environmental Protection Agency (EPA).

ACTION: Final rule.

SUMMARY: The Environmental Protection Agency (EPA) is approving a state implementation plan (SIP) revision submitted by the Commonwealth of Pennsylvania. This SIP revision addresses Clean Air Act (CAA) requirements for the enactment of a Basic vehicle emissions inspection and maintenance (I/M) program for the five counties comprising the Pennsylvania portion of the Philadelphia-Wilmington-Atlantic City, PA-NJ-MD-DE Moderate nonattainment area (Philadelphia nonattainment area) for the 2015 8-hour ozone national ambient air quality standards (NAAQS). The SIP revision demonstrates that Pennsylvania's existing I/M program in the Philadelphia nonattainment area meets applicable requirements for a Basic I/M program. The EPA is approving this SIP revision to the Pennsylvania SIP in accordance with the requirements of the Clean Air Act (CAA).

DATES: This final rule is effective on March 2, 2026.

ADDRESSES: EPA has established a docket for this action under Docket ID Number EPA-R03-OAR-2025-0130. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Brian Rehn, Planning & Implementation Branch (3AD30), Air & Radiation Division, U.S. Environmental Protection Agency, Region III, 1600 John F. Kennedy Boulevard, Philadelphia, Pennsylvania 19103. The telephone number is (215) 814-2176. Mr. Rehn can also be reached via electronic mail at rehn.brian@epa.gov.

SUPPLEMENTARY INFORMATION:

I. Background

On October 7, 2022, the EPA determined that the Philadelphia NAA failed to attain the 2015 ozone NAAQS by its August 3, 2021 attainment date and reclassified the area from Marginal to Moderate nonattainment.¹ CAA requirements for a Moderate ozone nonattainment area include, amongst other measures, a Basic vehicle I/M program.² Requirements for a Basic I/M program are further articulated in the EPA's I/M Rule at 40 Code of Federal Regulations (CFR) part 51, subpart S.³ Federal performance standards ⁴ for a Basic I/M program are outlined in 40 CFR 51.352. Consistent with the I/M Rule, areas with existing I/M programs need to conduct and submit a performance standard modeling analysis as well as make any necessary program revisions as part of their Moderate area SIP submissions to ensure that I/M programs are operating at or above the Basic I/M performance standard level for the 2015 8-hour ozone NAAQS. For such areas, states may demonstrate through emissions estimation modeling that an existing, SIP-approved I/M program would (without modification) comply with the applicable CAA Basic performance standard, as required for the 2015 ozone NAAQS NAA. In this case, the state could submit a SIP revision with the associated performance modeling and a written attestation certifying that the existing I/M program meets all Basic I/M requirements, in lieu of revising existing program regulations.⁵

¹ 87 FR 60897 (October 7, 2022).

² CAA section 182(b)(4).

³ See 40 CFR 51.350(a) for nonattainment area population I/M criteria applicability.

⁴ An I/M performance standard is a collection of program design elements which defines a benchmark program to which a state's proposed I/M program is compared in terms of its potential to reduce emissions of the ozone precursors, nitrogen oxides (NOX) and volatile organic compounds (VOCs).

⁵ See section II.E of the October 7, 2022 final rule (87 FR 60897, 60906) and the April 13, 2022 proposal (87 FR 21842).

On August 28, 2025 (90 FR 41931), the EPA published a notice of proposed rulemaking (NPRM) for the Commonwealth of Pennsylvania. In the NPRM, the EPA proposed to approve Pennsylvania's Basic I/M certification SIP, finding that Pennsylvania's existing Enhanced I/M Program SIP for the Pennsylvania portion of the Philadelphia-Wilmington-Atlantic City, PA-NJ-MD-DE nonattainment Area meets all CAA requirements for a Basic I/M SIP applicable to an area classified by the EPA as Moderate ozone nonattainment under the 2015 ozone NAAQS. The formal SIP revision was submitted by Pennsylvania on September 28, 2023.

After submitting this Basic I/M certification SIP, the EPA again reclassified the Philadelphia-Wilmington-Atlantic City nonattainment area—this time from Moderate to Serious nonattainment for the 2015 8-hour ozone NAAQS.⁶ CAA section 182(c)(3) requires states with areas designated as Serious or above to submit a SIP revision providing for the implementation of an Enhanced I/M program in certain urbanized areas of a Serious nonattainment area. As noted in the NPRM, that Serious area I/M requirement will be addressed through a SIP revision due at a later date.

⁶ 89 FR 61025, July 30, 2024.

II. Summary of SIP Revision and EPA Analysis

Pennsylvania submitted the September 28, 2023 SIP revision to address the CAA requirements for a Basic I/M program in Pennsylvania's portion of the 2015 ozone Philadelphia-Wilmington-Atlantic City area, as required by the CAA upon the area's “bump up” in classification to Moderate ozone nonattainment. Due to the area's prior classification under prior ozone NAAQS, as well as Pennsylvania's location in and inclusion of a CAA-designated Ozone Transport Region (OTR),⁷ Pennsylvania previously established and implemented a more stringent Enhanced I/M program in 2004 in the five-county Philadelphia ozone nonattainment area (i.e., Bucks, Chester, Delaware, Montgomery, and Philadelphia Counties).⁸ The EPA issued a final rule in June 1999 fully approving Pennsylvania's Enhanced I/M program SIP, including incorporation by reference of the program's governing regulations at 67 Pennsylvania (Pa) Code sections 175 and 177.⁹ Pennsylvania made minor revisions to the program subsequent to approval of that SIP revision and the EPA approved those revisions to the Pennsylvania I/M program in October 2005.¹⁰

⁷ The Philadelphia-Wilmington-Trenton NAA was previously classified as severe nonattainment under the now revoked 1979 ozone NAAQS. CAA section 184(b)(1)(A) provides that an area within a state in an ozone transport region and with a metropolitan statistical area population of 100,000 or more must implement an enhanced I/M program.

⁸ See 40 CFR 51.351(f) for the High Enhanced Performance Standard.

⁹ 64 FR 32411 (June 17, 1999).

¹⁰ 70 FR 58313 (October 6, 2005).

Pursuant to the September 28, 2023 SIP submittal, the EPA concurs with the Commonwealth's determination that the I/M program for Pennsylvania's portion of the 2015 Ozone Philadelphia NAA meets the applicable performance standard and requirements for a Basic I/M program.

Further details of Pennsylvania's SIP-approved I/M program and the rationale for the EPA's action to approve Pennsylvania's September 2023 I/M certification SIP are provided in the NPRM and its associated technical support document (TSD). That full explanation will not be restated here. No public comments were received by EPA on the NPRM.

III. EPA's Response to Comments Received

The EPA's August 28, 2025 NPRM (90 FR 41931) opened a 30-day public comment period, which closed on September 29, 2025. As no comments were received by EPA during the public comment period for the NPRM, the EPA has not prepared a response to comments document for this action.

IV. Final Action

The EPA is approving the Basic I/M Certification SIP submitted by Pennsylvania on September 28, 2023 for Pennsylvania's portion of the Philadelphia-Wilmington-Atlantic City multi-state nonattainment area for the 2015 8-hour ozone NAAQS as satisfying applicable CAA requirements for a Basic I/M program.

V. Statutory and Executive Order Reviews

A. General Requirements

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866:

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal Governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by March 30, 2026. Filing a petition for reconsideration by the Administrator of this final rule does not affect the finality of this action for the purposes of judicial review nor does it extend the time within which a petition for judicial review may be filed and shall not postpone the effectiveness of such rule or action. This action to approve Pennsylvania's Basic I/M certification SIP for the Commonwealth's portion of the multi-state Philadelphia NAA for the 2015 ozone NAAQS may not be challenged later in proceedings to enforce its requirements. (See section 307(b)(2).)

List of Subjects in 40 CFR Part 52

Environmental protection, Air pollution control, Incorporation by Reference, Nitrogen dioxide, Ozone, Particulate matter, Reporting and recordkeeping requirements, Volatile organic compounds.

Amy Van Blarcom-Lackey,
Regional Administrator, Region III.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by adding the entry “Basic vehicle emission inspection and maintenance (I/M) program requirement certification for the 2015 ozone national ambient air quality standard” at the end of the table to read as follows:

§ 52.2020 Identification of plan.

* * * * *

(e) * * *

(1) * * *

Name of non-regulatory SIP revision | Applicable geographic area | State submittal date | EPA approval date | Additional explanation
* * * * * * *
Basic vehicle emission inspection and maintenance (I/M) program requirement certification for the 2015 ozone national ambient air quality standard | Pennsylvania's portion of the Philadelphia-Wilmington-Atlantic City, PA-NJ-MD-DE 2015 ozone NAAQS nonattainment area | 09/28/2023 | 01/29/2026, 90 FR [INSERT FEDERAL REGISTER PAGE WHERE THE DOCUMENT BEGINS] | Certification that Pennsylvania's existing, approved Enhanced I/M program codified at 67 Pa Code sections 175 and 177 meets CAA requirements for a Basic I/M program applicable to a Moderate ozone nonattainment area (for the Philadelphia-Wilmington-Atlantic City, PA-NJ-MD-DE area for the 2015 ozone NAAQS).

* * * * *

[FR Doc. 2026-01762 Filed 1-28-26; 8:45 am]

BILLING CODE 6560-50-P